DEPARTMENT OF HEALTH AND HUMAN SERVICES

[Document Identifier OS-0990-0476]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment. This Federal Register notice seeks public comment on the revision recently submitted to OMB for review and approval. These comments will be reviewed and taken into consideration if the Department intends to make any revisions to the information collection request approved under [0990-0476]. Interested persons are invited to submit comments regarding the aforementioned non-substantive changes or any other aspect of this collection of information, including: the necessity and utility of the proposed information collection for the proper performance of the agency's functions, the accuracy of the estimated burden, ways to enhance the quality, utility and clarity of the information to be collected, and the use of automated collection techniques or other forms of information technology to minimize the information collection burden.

DATES: Comments on the ICR must be received on or before August 17, 2022.

ADDRESSES: Written comments and recommendations for the proposed information collection should be sent within 30 days of publication of this notice. To be assured consideration, comments and recommendations must be submitted www.reginfo.gov/public/do/PRAMain. Find this particular information collection by selecting “Currently under 30-day Review—Open for Public Comments” or by using the search function.

FOR FURTHER INFORMATION CONTACT: Sherrette Funn, Sherrette.Funn@hhs.gov or (202) 264-0041. When submitting comments or requesting information, please include the document identifier 0990-0476-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: ASPA COVID-19 Public Education Campaign Market Research.

Type of Collection: Revision.

OMB No. 0990-0476—Office of the Assistant Secretary for Public Affairs (ASPA) within Office of the Secretary.

Abstract

The Office of the Assistant Secretary for Public Affairs (ASPA), U.S. Department of Health and Human Services (HHS) is requesting a revision on a currently approved collection including three components: 1. Current Events Tracker (CET), 2. Qualitative data collection in the form of focus groups, interviews, and dyads, and 3. Copy testing surveys. This revision supports continuation of the approved data collection by adding burden and iterations to support the program during the ongoing COVID-19 public health emergency and through the expiration of the package 0990-0476 in early 2024. Together, these efforts support the development and execution of the COVID-19 Public Education Campaign. The broad purpose of each effort is as follows:

Current Events Tracker

The primary purpose of the COVID-19 Current Events Tracker (CET) survey is to continuously track key metrics of importance to the Campaign, including vaccine confidence and uptake, familiarity with and trust in HHS and other trusted messengers, and the impact of external events on key attitudes and behaviors. This information will inform Campaign development and execution including changes in messaging strategies necessary to effectively reach the entire U.S. population or specific subgroups.

Focus Groups/Interviews/Dyads

ASPA is collecting information qualitatively to inform the Campaign about audience risk knowledge, perceptions, current behaviors, and barriers and motivators to healthy behaviors (including COVID-19 vaccination). Ultimately these focus groups, interviews, and/or dyads will provide in-depth insights regarding information needed by Campaign audiences as well as their attitudes and behaviors related to COVID-19 and the COVID-19 vaccines. These will be used to inform the development of Campaign messages and strategy.

Copy Testing Surveys

Prior to placing Campaign advertisements in market, ASPA will conduct copy testing surveys to ensure the final Campaign messages have the intended effect on target attitudes and behaviors. Copy testing surveys will be conducted with sample members who comprise the target audiences; these surveys will assess perceived effectiveness of the advertisements as well as the effect of exposure to an ad on key attitudes and behavioral intentions. The results from these surveys will be used internally by ASPA to inform decisions on Campaign messages and materials; for example, to identify revisions to the materials or determine which advertisement to move to market.

Estimated Annualized Burden Table
Type of respondent | Form name | Number of respondents | Number responses per respondent | Average burden per response (in hours) | Total burden hours
CET | CET Questionnaire | ᵃ 138,000 | 1 | 7.2/60 | 16,560
Foundational Focus Groups, Interviews, and/or Dyads ᵇ | Screener and Interview | ᶜ 50,000 | 1 | 9.3/60 | 7,750
Copy Testing Survey | Screener and Survey | ᵈ 540,000 | 1 | 3.78/60 | 34,020
Sum of All Studies |  | 728,000 |  |  | 58,330

Sherrette A. Funn,
Paperwork Reduction Act Reports Clearance Officer, Office of the Secretary.

[FR Doc. 2022-15235 Filed 7-15-22; 8:45 am]

BILLING CODE 4150-25-P